NATIONAL SCIENCE FOUNDATION

Notice of Permit Applications Received Under the Antarctic Conservation Act of 1978 (Pub. L. 95-541)

AGENCY: National Science Foundation.

ACTION: Notice of permit applications received under the Antarctic Conservation Act of 1978, Public Law 95-541.

SUMMARY: The National Science Foundation (NSF) is required to publish notice of permit applications received to conduct activities regulated under the Antarctic Conservation Act of 1978. NSF has published regulations under the Antarctic Conservation Act at Title 45 Part 670 of the Code of Federal Regulations. This is the required notice of permit applications received.

DATES: Interested parties are invited to submit written data, comments, or views with respect to this permit application by April 8, 2005. This application may be inspected by interested parties at the Permit Office, address below.

ADDRESSES: Comments should be addressed to Permit Office, Room 755, Office of Polar Programs, National Science Foundation, 4201 Wilson Boulevard, Arlington, Virginia 22230.

FOR FURTHER INFORMATION CONTACT: Nadene G. Kennedy at the above address or (703) 292-7405.

SUPPLEMENTARY INFORMATION: The National Science Foundation, as directed by the Antarctic Conservation Act of 1978 (Pub. L. 95-541), as amended by the Antarctic Science, Tourism, and Conservation Act of 1996, has developed regulations for the establishment of a permit system for various activities in Antarctica and designation of certain animals and certain geographic areas as requiring special protection. The regulations establish such a permit system to designate Antarctic Specially Protected Areas.

The applications received are as follows:

1. Applicant: Steven D. Emslie. Permit Application No. 2006-001. Department of Biological Sciences, University of North Carolina, Wilmington, NC 28403.

Activity for Which Permit Is Requested

Take, Enter Antarctic Specially Protected Areas, and import into the U.S.A. The applicant plans to collect sediments from abandoned and active penguin colonies by excavation of small soil pits, no larger than 1x1m in each area. In addition, organic remains of bones, tissues, feathers, eggshell fragments, otoliths, squid beaks and other pretty remains will be collected. The data from analysis of these items will be compared to the paleoclimatic record to investigate patterns in population fluctuations of penguins in relation to climate change in the past. This information, in addition to data on modern population changes with global warming, will test hypotheses on how penguins respond to climate change and will help develop a predictive model for future responses by these species to continued global warming.

The application also plans to salvage complete or partial specimens of modern penguins and other seabirds, but no more than 10 specimens per species, for identification and analysis. These specimens will remain at the University of North Carolina or other appropriate universities or museums for educational purposes and study.

Location

Antarctic Peninsula region, Ross Sea and Victoria Land coast, vicinity of McMurdo Sound, and the following Antarctic Specially Protected Areas on an opportunistic basis:

ASPA 102 Rookery Islands, Holme Bay

ASPSA 103 Ardery and Odbert Islands

ASPA 104 Sabrina Island, Balleny Island

ASPA 105 Beaufort Island

ASPA 106 Cape Hallett, Victoria Land

ASPA 107 Dion Islands

ASPA 108 Green Island, Berthelot Islands

ASPA 109 Moa Island, South Orkneys

ASPA 110 Lynch Island, South Orkneys

ASPA 111 Southern Powell Island and adjacent islands, South Orkneys

ASPA 112 Coppermine Peninsula, Robert Island

ASPA113 Litchfield Island, Arthur Harbor

ASPA 114 North Coronation Island

ASPA 115 Lagotellerie Island, Marguerite Bay

ASPA 116 New College Valley, Caughley Beach, Cape Bird

ASPA 117 Avian Island, northwest Marquerite Bay

ASPA 121 Cape Royds, Ross Island

ASPA 124 Cape Crozier, Ross Island

ASPA 125 Fildes Peninsula, King George Island, South Shetland Islands

ASPA 126 Byers Peninsula, Livingston Island

ASPA 127 Haswell Island

ASPA 128 Western shore of Admiraltry Bay, King George Island

ASPA 129 Rothera Point, Adelaide Island

ASPA 132 Potter Peninsula, King George Island

ASPA 133 Harmony Point, Nelson Island

ASPA 134 Cierva Point, Danco Coast

ASPA 135 Bailey Peninsula, Budd Coast

ASPA 136 Clark Peninsula, Budd Coast

ASPA 139 Biscoe Point, Anvers Island, Palmer Archipelago

ASPA 143 Marine Plain, Mule Peninsula, Vestfold Hills

ASPA 149 Cape Shirref, Livingston Island

ASPA 150 Ardley Island, King George Island

ASPA 151 Lions Rump, King George Island

ASPA 154 Cape Evans, Ross Island

ASPA 158 Cape Adare

ASPA 160 Botany Bay, Cape Geology, Victoria Land

Dates

January 1, 2006, to December 31, 2011.

Nadene G. Kennedy,
Permit Officer, Office of Polar Programs.

[FR Doc. 05-4535 Filed 3-8-05; 8:45 am]

BILLING CODE 7555-01-M